FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Reporting Requirements Associated with section 208.22 of Regulation H (Notifications Related to Community Development and Public Welfare Investments by State Member Banks) (FR H-6; OMB No. 7100-0278).

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, Without Revision, of the Following Information Collection

Collection title: Reporting Requirements Associated with Section 208.22 of Regulation H (Notifications Related to Community Development and Public Welfare Investments by State Member Banks).

Collection identifier: FR H-6.

OMB control number: 7100-0278.

General description of collection: Section 208.22 of Regulation H—Membership of State Banking Institutions in the Federal Reserve System (12 CFR 208.22) requires state member banks, in connection with their community development or public welfare investment activity, to submit a request for approval to the appropriate Federal Reserve Bank unless the investment does not require prior Board approval, in which case the state member bank must submit a written notice to the Reserve Bank.

Frequency: Event-generated.

Respondents: State member banks.

Total estimated number of respondents: 251.

Total estimated annual burden hours: 919.¹

¹ More detailed information regarding this collection, including more detailed burden estimates, can be found in the OMB Supporting Statement posted at https://www.federalreserve.gov/apps/reportingforms/home/review. On the page displayed at the link, you can find the OMB Supporting Statement by referencing the collection identifier, FR H-6.

Current actions: On August 18, 2023, the Board published a notice in the Federal Register (88 FR 56628) requesting public comment for 60 days on the extension, without revision, of the FR H-6. The comment period for this notice expired on October 17, 2023. The Board did not receive any comments.

Board of Governors of the Federal Reserve System, December 19, 2023.
Michele Taylor Fennell,
Deputy Associate Secretary of the Board.

[FR Doc. 2023-28345 Filed 12-22-23; 8:45 am]

BILLING CODE 6210-01-P